DEPARTMENT OF COMMERCE

Foreign-Trade Zones Board

[B-60-2019]

Foreign-Trade Zone (FTZ) 23—Buffalo, New York; Authorization of Production Activity; Panasonic Solar North America (Crystalline Silicon Photovoltaic Solar Panels/Modules and Cells); Buffalo, New York

On September 26, 2019, Panasonic Solar North America (formerly Panasonic Eco Solutions New York America) submitted a notification of proposed production activity to the FTZ Board for its facility within FTZ 23, in Buffalo, New York.

The notification was processed in accordance with the regulations of the FTZ Board (15 CFR part 400), including notice in the Federal Register inviting public comment (84 FR 53103-5310, October 4, 2019). On January 24, 2020, the applicant was notified of the FTZ Board's decision that no further review of the activity is warranted at this time. The production activity described in the notification was authorized, subject to the FTZ Act and the FTZ Board's regulations, including Section 400.14.

Dated: January 24, 2020.
Andrew McGilvray,
Executive Secretary.

[FR Doc. 2020-01840 Filed 1-30-20; 8:45 am]

BILLING CODE 3510-DS-P